DEPARTMENT OF THE INTERIOR

Bureau of Land Management

[AZ-910-0777-XP-241A]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on December 6, 2007, in Phoenix, Arizona, at the BLM Arizona State Office, One North Central Avenue, 8th floor. It will begin at 8 a.m. and conclude at 4:30 p.m. Morning agenda items include: Review of the September 6, 2007, meeting minutes for RAC and Recreation Resource Advisory Council (RRAC) business; BLM State Director's update on statewide issues; presentations on: BLM Energy Corridors in Arizona, BLM Recreation Webpage Redesign, BLM Route Evaluation and Designation Process; and Recreational Shooting on Public Lands; review and discussion of the 2008 RAC Annual Work Plan; and, reports by RAC working groups. A public comment period will be provided at 11:30 a.m. on December 6, 2007, for any interested publics who wish to address the Council on BLM programs and business.

Under the Federal Lands Recreation Enhancement Act, the RAC has been designated the RRAC, and has the authority to review all BLM and Forest Service (FS) recreation fee proposals in Arizona. The afternoon meeting agenda on December 6, will include discussion and review of the Recreation Enhancement Act (REA) Working Group Report, the Fiscal Year 2008 quarterly schedule for BLM and FS recreation fee proposals, and proposed modifications to the RRAC protocol, business cycle, and fee proposal guidelines.

After completing their RRAC business, the BLM RAC will discuss future meetings and locations.

DATES: Effective Date: December 6, 2007.

FOR FURTHER INFORMATION CONTACT: Deborah Stevens, Bureau of Land Management, Arizona State Office, One North Central Avenue, Suite 800, Phoenix, Arizona 85004-4427, 602-417-9504.

Helen M. Hankins,
Acting State Director.

[FR Doc. E7-22435 Filed 11-15-07; 8:45 am]

BILLING CODE 4310-32-P